DEPARTMENT OF LABOR

Office of the Assistant Secretary for Administration and Management

Proposed Collection of Information; Comment Request

ACTION: Notice.

SUMMARY: The Department of Labor, as part of its continuing effort to reduce paperwork and respondent burden, conducts a pre-clearance consultation program to provide the general public and Federal agencies with an opportunity to comment on the proposed continued collection of information in accordance with the Paperwork Reduction Act of 1995 (PRA) [44 U.S.C. 3506(c)(2)(A)]. This program helps to ensure that requested data can be provided in the desired format, reporting burden (time and financial resources) is minimized, collection instruments are clearly understood, and the impact of collection requirements on respondents can be properly assessed.

The Department notes that a Federal agency cannot conduct or sponsor a collection of information unless it is approved by the Office of Management and Budget (OMB) under the PRA, and displays a currently valid OMB control number, and the public is not required to respond to a collection of information unless it displays a currently valid OMB control number. Also, notwithstanding any other provision of law, no person may be subject to penalty for failing to comply with a collection of information if the collection of information does not display a currently valid OMB control number. See 5 U.S.C. 1320.5(a) and 1320.6.

DATES: Written comments are to be submitted by November 16, 2010.

ADDRESSES: Electronically: You may submit comments and attachments by sending an e-mail to ConferenceRoomsandServices.DOL@dol.gov, attention: Tracey Schaeffer. Written comments may also be transmitted by facsimile to 202-693-7761. Address comments sent by mail or delivery service to Office of the Assistant Secretary for Administration and Management (OASAM), U.S. Department of Labor, 200 Constitution Avenue, NW., Room C5519, Washington, DC 20210, attention: Tracey Schaeffer. You may contact Tracey Schaeffer at 202-693-7773 (this is not a toll-free number) or e-mail ConferenceRoomsandServices.DOL@dol.gov to request a copy of this information collection or with general questions about this notice.

SUPPLEMENTARY INFORMATION:

I. Background

The U.S. Department of Labor headquarters building, the Frances Perkins Building (FPB), has conference and meeting capabilities located in its public space areas that entities outside of the Department may request to use. In general, use of public space in Federal buildings is governed by section 581(h) of Title 40 of the United States Code (40 U.S.C. 581(h)). Section 581 is implemented by the Federal Management Regulations (FMR), which are published by GSA. Section 121(d) of title 40 of the US Code (40 U.S.C. 121(d)) authorizes the GSA Administrator to delegate GSA's authority to an agency head. The Office of the Assistant Secretary for Administration and Management (OASAM) operates the FPB under a 2003 delegation from GSA; the existing GSA-DOL delegation includes the authority provided in section 581(h) and, so, OASAM may exercise the authority provided by section 581(h) at the FPB, subject to applicable GSA and DOL regulations, policies and procedures. The delegation includes specific terms and conditions and is subject to the terms and conditions set forth in the “Standard Operating Procedures for Delegated Government-Owned Real Property” “SOP”. Under the Delegation and SOP, the Department has authority under section 581(h)(2) to issue occasional use permits. The issuance of permits must comply with the Department's Delegation and with GSA's regulations in title 41 of the CFR, which covers a variety of subjects. Occasional use permits may only be issued to organizations engaging in cultural, educational, or recreational activities. In general, these permits are not available for commercial purposes.

FMR 102-74, Subpart D—Occasional Use of Public Buildings—establishes rules and regulations for the occasional use of public areas of public buildings for cultural, educational and recreational activities as provided by 40 U.S.C. 581(h)(2). Under section 102-74.465, any person or organization wishing to use a public area must file an application for a permit from the Federal agency buildings manager. Section 102-74.470 states that applicants must submit the following information:

(a) Their full names, mailing addresses, and telephone numbers;

(b) The organization sponsoring the proposed activity;

(c) The individual(s) responsible for supervising the activity;

(d) Documentation showing that the applicant has authority to represent the sponsoring organization;

(e) A description of the proposed activity, including the dates and times during which it is to be conducted and the number of persons to be involved.

OASAM has established policies and procedures concerning FPB public space. These policies and procedures are set forth in the Department of Labor Manual Series (DLMS) 2-510 as well as an application for public space use by DOL Agencies and DOL-related entities. To comply with the above cited statutory, rules and regulatory requirements for entities sponsored or not sponsored by DOL Agencies or DOL-related entities which seek to use FPB public space, the Department has created a separate new application form. This notice relates to this new application form.

II. Current Action

OASAM is requesting that OMB approve the collection of information requirements on Form DL1-6062B, “Application for Use of Public Space by Non-DOL Agencies in the Frances Perkins Building.” Part of that approval process provides the public an opportunity to provide public comments about the proposed collection of information. OASAM will consider those comments prior to preparing a final package for submission to OMB. OASAM will also summarize the public comments submitted in response to this notice, and will include this summary in the request to OMB.

III. Desired Focus of Comments

OASAM is particularly interested in comments which:

• Evaluate whether the proposed collection of information is necessary for the proper performance of the functions of the agency, including whether the information will have practical utility;

• Evaluate the accuracy of the agency's estimate of the burden of the proposed collection of information; including the validity of the methodology and assumptions used;

• Enhance the quality, utility, and clarity of the information to be collected; and

• Minimize the burden of the collection of information on those who are to respond, including through the use of appropriate automated, electronic, mechanical, or other technological collection techniques or other forms of information technology, e.g., permitting electronic submissions of responses.

Agency: Department of Labor, Office of the Assistant Secretary for Administration and Management;

Type of Review: New Collection (Request for OMB Control Number).

Title of Collection: Application for Use of Public Space by Non-DOL Agencies in the Frances Perkins Building.

OMB Control Number: 1225-0New.

Agency Form Number: DL1-6062B.

Affected Public: Private Sector (Business or not-for-profit institutions).

Estimated Number of Respondents: 5.

Frequency: On occasion.

Total Estimated Annual Responses: 5.

Estimated Average Time per Response: 5 minutes per application.

Estimated Total Annual Burden Hours: 25.

Total Estimated Annualized Cost Burden (excluding hour cost): $0.

Comments submitted in response to this notice will be summarized and may be included in the request for OMB approval of the information collection request. The comments will become a matter of public record.

Dated: September 13, 2010.
Michel Smyth,
Departmental Clearance Officer.

[FR Doc. 2010-23293 Filed 9-16-10; 8:45 am]

BILLING CODE 4510-23-P